DEPARTMENT OF COMMERCE

National Oceanic and Atmospheric Administration

Proposed Information Collection; Comment Request; Catcher Processor Socio-Cultural Study

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 22, 2014.

ADDRESSES: Direct all written comments to Jennifer Jessup, Departmental Paperwork Clearance Officer, Department of Commerce, Room 66165, 14th and Constitution Avenue NW., Washington, DC 20230 (or via the Internet at JJessup@doc.gov).

FOR FURTHER INFORMATION CONTACT: Requests for additional information or copies of the information collection instrument and instructions should be directed to Amber Himes-Cornell, (206) 526-4221 or amber.himes@noaa.gov.

SUPPLEMENTARY INFORMATION:

I. Abstract

This request is for a new information collection.

Historically, changes in fisheries management regulations have been shown to result in impacts to individuals within the fishery. An understanding of social impacts in fisheries—achieved through the collection of data on fishing communities, as well as on individuals who fish—is a requirement under several federal laws. Laws such as the National Environmental Policy Act (NEPA) and the Magnuson- Stevens Fishery Conservation and Management Act (MSA) (as amended 2007) describe such requirements. The collection of this data not only helps to inform legal requirements for the existing management actions, but will inform future management actions requiring equivalent information.

Fisheries rationalization programs have an impact on those individuals participating in the affected fishery, as well as their communities and may also have indirect effects on other fishery participants. The North Pacific Fishery Management Council is considering the implementation of a new, yet to be defined, rationalization program for the Gulf of Alaska groundfish trawl fishery. A data collection was conducted in 2014 (OMB Control No. 0648-0685) to obtain relevant socio-cultural information about current participants in most sectors of this fishery.

The proposed data collection complements this 2014 effort by collecting comparable information from individuals participating in the catcher processor fleet that operates in the North Pacific. The data collected will be used to develop a baseline description of the catcher processor sector operating in the North Pacific that can be used to analyze impacts that future fisheries management changes, such as the new bycatch management changes being developed for the Gulf of Alaska trawl fishery, may have on catcher processor businesses, as well as individuals and communities that are dependent on this sector. The measurement of these changes, combined with those noted in the 2014 survey, will lead to a greater understanding of the social impacts new management measures may have on the individuals and communities.

II. Method of Collection

Data collection will be undertaken through the use of a survey instrument. Data will be collected using a mixed method approach through a combination of paper surveys, electronic surveys, and in-person interviews to obtain the greatest breadth of information as possible.

III. Data

OMB Control Number: 0648-xxxx.

Form Number: None.

Type of Review: Regular submission (request for a new information collection).

Affected Public: Individuals or households; business or other for-profit organizations.

Estimated Number of Respondents: 435.

Estimated Time per Response: 20-30 minutes.

Estimated Total Annual Burden Hours: 160 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 16, 2014.
Glenna Mickelson,
Management Analyst, Office of the Chief Information Officer.

[FR Doc. 2014-25047 Filed 10-21-14; 8:45 am]

BILLING CODE 3510-22-P